DEPARTMENT OF THE TREASURY

Alcohol and Tobacco Tax and Trade Bureau

27 CFR Part 9

[Notice No. 45]

RIN 1513-AB02

Proposed Establishment of the San Antonio Valley Viticultural Area (2004R-599P)

AGENCY: Alcohol and Tobacco Tax and Trade Bureau, Treasury.

ACTION: Notice of proposed rulemaking.

SUMMARY: The Alcohol and Tobacco Tax and Trade Bureau proposes to establish the “San Antonio Valley” viticultural area in southwest Monterey County, California, within the existing Central Coast viticultural area. We designate viticultural areas to allow vintners to better describe the origin of their wines and allow consumers to better identify wines they may purchase. We invite comments on this proposed addition to our regulations.

DATES: We must receive written comments on or before July 18, 2005.

ADDRESSES: You may send comments to any of the following addresses:

• Chief, Regulations and Procedures Division, Alcohol and Tobacco Tax and Trade Bureau, Attn: Notice No. 45, P.O. Box 14412, Washington, DC 20044-4412.

• 202-927-8525 (facsimile).

• nprm@ttb.gov (e-mail).

• http://www.ttb.gov/alcohol/rules/index.htm. An online comment form is posted with this notice on our Web site.

• http://www.regulations.gov (Federal e-rulemaking portal; follow instructions for submitting comments).

You may view copies of this notice, the petition, the appropriate maps, and any comments we receive about this proposal by appointment at the TTB Library, 1310 G Street, NW., Washington, DC 20220. To make an appointment, call 202-927-2400. You may also access copies of the notice and comments online at http://www.ttb.gov/alcohol/rules/index.htm.

See the Public Participation section of this notice for specific instructions and requirements for submitting comments, and for information on how to request a public hearing.

FOR FURTHER INFORMATION CONTACT: N.A. Sutton, Regulations and Procedures Division, Alcohol and Tobacco Tax and Trade Bureau, 925 Lakeville Street, No. 158, Petaluma, California 94952; telephone 415-271-1254.

SUPPLEMENTARY INFORMATION:

Background on Viticultural Areas

TTB Authority

Section 105(e) of the Federal Alcohol Administration Act (the FAA Act, 27 U.S.C. 201 et seq.) requires that alcohol beverage labels provide consumers with adequate information regarding product identity and prohibits the use of misleading information on those labels. The FAA Act also authorizes the Secretary of the Treasury to issue regulations to carry out its provisions. The Alcohol and Tobacco Tax and Trade Bureau (TTB) administers these regulations.

Part 4 of the TTB regulations (27 CFR part 4) allows the establishment of definitive viticultural areas and the use of their names as appellations of origin on wine labels and in wine advertisements. Part 9 of the TTB regulations (27 CFR part 9) contains the list of approved viticultural areas.

Definition

Section 4.25(e)(1)(i) of the TTB regulations (27 CFR 4.25(e)(1)(i)) defines a viticultural area for American wine as a delimited grape-growing region distinguishable by geographical features, the boundaries of which have been recognized and defined in part 9 of the regulations. These designations allow vintners and consumers to attribute a given quality, reputation, or other characteristic of a wine made from grapes grown in an area to its geographical origin. The establishment of viticultural areas allows vintners to describe more accurately the origin of their wines to consumers and helps consumers to identify wines they may purchase. Establishment of a viticultural area is neither an approval nor an endorsement by TTB of the wine produced in that area.

Requirements

Section 4.25(e)(2) of the TTB regulations outlines the procedure for proposing an American viticultural area and provides that any interested party may petition TTB to establish a grape-growing region as a viticultural area. Section 9.3(b) of the TTB regulations requires the petition to include—

• Evidence that the proposed viticultural area is locally and/or nationally known by the name specified in the petition;

• Historical or current evidence that supports setting the boundary of the proposed viticultural area as the petition specifies;

• Evidence relating to the geographical features, such as climate, elevation, physical features, and soils, that distinguish the proposed viticultural area from surrounding areas;

• A description of the specific boundary of the proposed viticultural area, based on features shown on United States Geological Survey (USGS) maps; and

• A copy of the appropriate USGS map(s) with the proposed viticultural area's boundary prominently marked.

San Antonio Valley Petition

Paul Getzelman, Paula Getzelman, and Steve Cobb of Lockwood, California, have petitioned TTB to establish the “San Antonio Valley” viticultural area in southwest Monterey County, California, in a valley situated in the Santa Lucia mountain range. The proposed area is entirely within the existing multi-county Central Coast viticultural area (27 CFR 9.75). According to the petitioners, there are approximately 235 square miles, or 150,400 acres of land, within the proposed San Antonio Valley viticultural area. Over 700 of these acres are planted to vines.

Name Evidence

According to the petitioners, the name “San Antonio Valley” dates back to 1771 when a small party of Spanish missionaries headed by Father Junipero Serra entered the oak-mantled valley in what was to become southern Monterey County. Near the river the padre had named “El Rio de San Antonio,” they established a mission and named it “San Antonio de Padua” in honor of Saint Anthony of Padua. They later relocated the mission a couple of miles north, at the confluence of the San Miquel and San Antonio Rivers, because it would be a good site for a winery.

The petitioners cite the following reference sources as evidence of the historical and current usage of the name “San Antonio Valley”:

• “Memories of the San Antonio Valley,” by Rachel Gillett, San Antonio Valley Historical Society, 1990. Gillet refers repeatedly to the proposed area as “San Antonio Valley.” She states that the township of San Antonio was surveyed in 1865 near the El Camino Real or King's highway (currently Jolon Road). She further notes that a San Antonio post office was operated in the township from 1867 to 1887.

• “California Place Names; The Origin and Etymology of Current Geographical Names,” by Erwin G. Gudde and William Bright, University of California Press, Fourth Edition. The authors note that the name San Antonio, which appears in the titles of many land grants and claims, has survived in a number of places, including in the names of the San Antonio River, San Antonio Mission, San Antonio Creek, and San Antonio Valley.

• “Monterey County Place Names, a Geographical Dictionary,” by Donald Thomas Clark, Kestrel Press, 1991. The author writes of the San Antonio Valley, “this is the valley through which the San Antonio River flows.”

• Pelican Network Guide, an Internet travel site, states the following about the San Antonio Valley: “Nearly secret, San Antonio Valley is an intriguing short range destination. About two and a half hours from Silicon Valley, yet far more remote in history, it provides environmental, literary, cultural, and historical rewards. San Antonio Valley is the setting for John Steinbeck's “To an Unknown God,” an early novel of his spiritual and ecological themes.” (See http://www.pelicannetwork.net/getaways.sanantonio.valley.htm.)

The petitioners state that although the valley has been known by various names in the past 300 years, often due to changes in ownership under the Spanish land grant system, the name San Antonio Valley has endured. According to the petitioners, local residents have long known the area as San Antonio Valley. The name “San Antonio” is used throughout the area—the San Antonio Union School, San Antonio Reservoir, and San Antonio River can all be found on the USGS map for Williams Hill, California, submitted by the petitioners. The petitioners note that while the southern portion of the area is also known as Lockwood Valley, the name “Lockwood” is most accurately applied to a township in the southern portion of the San Antonio Valley.

Boundary Evidence

The boundaries for the proposed area are the natural geographical boundaries of the San Antonio Valley. The proposed viticultural area, which includes approximately 150,400 acres of flat land and gently rolling hills, extends up the surrounding hillsides to an elevation of approximately 2,200 feet. This valley, formed by the watershed of the San Antonio River, is situated in the Santa Lucia mountain range between the Pacific coast and the Salinas Valley. The San Antonio River flows across the Santa Lucia range in a southeasterly direction, then turns to the east and flows into the Salinas River. A dam built in the 1950s on the river near the San Luis Obispo County line forms San Antonio Reservoir.

The boundaries of the Fort Hunter Liggett Military Reservation lie partially within the proposed area. While the fort is currently under the jurisdiction of the United States Government, the petitioners note that it could be sold in the future. Because the reservation is contiguous with the remainder of the proposed area and shares its growing conditions, the petitioners state it can be considered equally suitable for vineyards.

According to the petitioners, the San Antonio Valley's basin shape, elevation, climate, and soils contribute to significantly different growing conditions from those found in the adjoining areas within the large Central Coast viticultural area. These growing conditions are described in detail in the following section. The petitioners note that the Spanish missionaries, who planted grape vines to provide sacramental wine for the Mission, were the first to recognize the valley's unique growing conditions. The Pelican Network Guide states, “The Spaniards, who liked the site for wine making because of its soil and climate, were right on the money.”

Distinguishing Features

Elevation

The elevation of the proposed San Antonio Valley viticultural area ranges from 850 feet to approximately 2,200 feet. It is surrounded by the higher Santa Lucia range (greater than 2,200 feet) to the west and south and a lower ridge (approximately 1,500 feet) to the north and east. According to the petitioners, the shape and elevation of the area results in higher daytime and lower nighttime temperatures than in neighboring areas with lower elevations, such as the Monterey viticultural area where the elevation ranges from 50 feet to 540 feet. The petitioners state that the daily heating-cooling cycle produced by the proposed area's higher elevation allows grapes to achieve full, rich fruit flavor and color while retaining a crisp acidity.

Soils

According to the petitioners, the San Antonio Valley has a distinctive soil profile comprised of nearly 40 different soil series, the majority of them alluvial in nature. The remaining soils were formed on uplands in material generally weathered from sandstone and shale. Current vineyards are planted on flat to moderately sloping terrain. The principle soil series are: Arbuckle gravelly loam, Chamise shaly loam, Lockwood loam and shaly loam, Placentia sandy loam, Placentia-Arbuckle complex, Rincon clay loam, Nacimiento silty clay loam, and Pinnacles coarse sandy loam. As supporting evidence, the petitioners submitted soil data for the proposed area from “Soil Survey of Monterey County, California,” published by the Soil Conservation Service of the U.S. Department of Agriculture.

The petitioners note that these soils are distinctive from the soils of neighboring areas of Monterey County. In the San Bernabe viticultural area (27 CFR 9,171), for example, the soils, remnants of ancient sand dunes, are mostly of the eolian type. The adjacent Hames Valley viticultural area (27 CFR 9.147) has a very homogeneous soil profile with 75 percent of the soils derived from the Lockwood series. In contrast, the San Antonio Valley has a much more varied soil profile with the majority of the soil series being alluvial in nature.

Climate

The petitioners state that the San Antonio Valley's climate is much less affected by marine air than other areas of the Central Coast. A stable layer of marine air typically dominates coastal California weather, causing higher humidity, cooler maximum temperatures, and warmer minimum temperatures. This effect occurs with greater duration in valleys close to the coast, such as Carmel Valley, Edna Valley, Santa Ynez Valley, and lower Salinas Valley. Its influence decreases as one travels inland, especially in the upper areas of the Salinas Valley. According to the petitioners, the inland position of the San Antonio Valley and its basin shape act to block the intrusion of this marine air. Only when the upper level of atmospheric pressure deepens the layer of marine air to greater than its typical depth of 1,000-1,500 feet does the San Antonio Valley experience a marine influence. This lack of a marine influence creates a unique microclimate for the area, with drier, hotter days in summer and cooler nights in the spring and fall.

As evidence of this climatic distinction, the petitioners have submitted temperature comparisons based on data from the National Weather Center. A comparison of growing season average monthly temperatures between San Antonio Valley and nearby areas (Carmel Valley, Gonzales, Arroyo Seco, King City, and Paso Robles) shows that San Antonio Valley is considerably cooler than the other areas during April. The petitioner states that this is due to the San Antonio Valley's basin shape and drier conditions, factors they state also cause the San Antonio Valley to experience more frequent frost episodes. However, from June through September the proposed area averages warmer temperatures than the other areas, with the exception of Paso Robles, an area further inland than San Antonio Valley.

The petitioners also submitted a comparison of both total growing season degree days and monthly degree days for the same areas. (During the growing season, one degree day accumulates for each degree Fahrenheit that a day's average temperature is above 50 degrees, which is the minimum temperature required for grapevine growth. See “General Viticulture,” by Albert J. Winkler, University of California Press, 1974.) These comparisons show that San Antonio Valley typically accumulates above 3,000 degree days for the total growing season. Paso Robles accumulates 3,600 degree days for the same period, while Carmel Valley, Gonzales, and Arroyo Seco all accumulate fewer than 2,400 degree days each. King City accumulates roughly as many degrees days for the growing season as San Antonio Valley. However, the monthly comparison shows that in King City the degree days accumulate steadily through the months, while in the San Antonio Valley the increase and decrease in degree days is much more dramatic, with most of the increase occurring during the summer months.

In addition to the temperature comparisons described above, the petitioners also submitted a microclimate comparison of the San Antonio Valley and two adjacent viticultural areas, Paso Robles and Hames Valley (27 CFR 9.84 and 9.147, respectively). The data covered a two-week period from September 16-29, 2003, and was collected at sites located at Hunter Liggett Military Reservation within the proposed area, at Bradley in the Hames Valley area, and at the Paso Robles Airport within the Paso Robles area. The petitioners submitted the data in the form of graphs exhibiting differences in temperature, dew point, humidity, and wind speeds between the three areas.

According to the graphs, wind speeds for the period were significantly lower in the San Antonio Valley than in the Hames Valley or Paso Robles. The petitioners state that this is because the topography of the proposed area blocks the strongest daily afternoon winds created by marine influence. Dew points for the period were shown to be at least 10 degrees lower in the San Antonio Valley than in the other areas, reflecting the proposed area's lower humidity. The temperature data, according to the petitioners, shows that the San Antonio Valley also has a markedly different temperature profile from either the Hames Valley or Paso Robles. Generally, this data shows that the proposed area is less affected by marine air intrusions. The petitioners noted that during times of marine influence, the San Antonio Valley has a much greater temperature variance than the other areas where the marine air moderates the temperatures. On the other hand, they note that on days with little marine influence, the proposed area experiences less temperature variation than the other areas.

The petitioners conclude that their evidence shows the climate in the proposed San Antonio Valley viticultural area to be significantly different in regard to temperature, wind, humidity, and degree day accumulations from surrounding viticultural areas. These differences, they contend, are a reflection of the area's basin geography, making the grape growing environment in the San Antonio Valley unique relative to other Central Coast viticultural areas.

Boundary Description

See the narrative boundary description of the petitioned-for viticultural area in the proposed regulatory text published at the end of this notice.

Maps

The petitioners provided the required maps, and we list them below in the proposed regulatory text.

Impact on Current Wine Labels

Part 4 of the TTB regulations prohibits any label reference on a wine that indicates or implies an origin other than the wine's true place of origin. If we establish this proposed viticultural area, its name, “San Antonio Valley,” will be recognized as a name of viticultural significance. Consequently, wine bottlers using “ San Antonio Valley” in a brand name, including a trademark, or in another label reference as to the origin of the wine, will have to ensure that the product is eligible to use the viticultural area's name as an appellation of origin. On the other hand, we do not believe that any single part of the proposed viticultural name standing alone, such as “San Antonio,” would have viticultural significance if the new area is established. Accordingly, the proposed part 9 regulatory text set forth in this document specifies only the full “San Antonio Valley” name as a term of viticultural significance for purposes of part 4 of the TTB regulations.

For a wine to be eligible to use as an appellation of origin the name of a viticultural area specified in part 9 of the TTB regulations, at least 85 percent of the grapes used to make the wine must have been grown within the area represented by that name, and the wine must meet the other conditions listed in 27 CFR 4.25(e)(3). If the wine is not eligible to use the viticultural area name as an appellation of origin and that name appears in the brand name, then the label is not in compliance and the bottler must change the brand name and obtain approval of a new label. Similarly, if the viticultural area name appears in another reference on the label in a misleading manner, the bottler would have to obtain approval of a new label. Accordingly, if a new label or a previously approved label uses the name “San Antonio Valley” for a wine that does not meet the 85 percent standard, the new label will not be approved, and the previously approved label will be subject to revocation, upon the effective date of the approval of the San Antonio Valley viticultural area.

Different rules apply if a wine has a brand name containing a viticultural area name that was used as a brand name on a label approved before July 7, 1986. See 27 CFR 4.39(i)(2) for details.

Public Participation

Comments Invited

We invite comments from interested members of the public on whether we should establish the proposed viticultural area. We are also interested in receiving comments on the sufficiency and accuracy of the name, boundary, climatic, and other required information submitted in support of the petition. Please provide any available specific information in support of your comments.

Because of the potential impact of the establishment of the proposed San Antonio Valley viticultural area on brand labels that include the words “San Antonio Valley” as discussed above under “Impact on Current Wine Labels,” we are particularly interested in comments regarding whether there will be a conflict between the proposed area name and currently used brand names. If a commenter believes that a conflict will arise, the comment should describe the nature of that conflict, including any negative economic impact that approval of the proposed viticultural area will have on an existing viticultural enterprise. We are also interested in receiving suggestions for ways to avoid any conflicts, for example by adopting a modified or different name for the viticultural area.

Although TTB believes that only the full “San Antonio Valley” name should be considered to have viticultural significance upon establishment of the proposed new viticultural area, we also invite comments from those who believe that “San Antonio” standing alone would have viticultural significance upon establishment of the area. Comments in this regard should include documentation or other information supporting the conclusion that use of “San Antonio” on a wine label could cause consumers and vintners to attribute to the wine in question the quality, reputation, or other characteristic of wine made from grapes grown in the proposed San Antonio Valley viticultural area.

Submitting Comments

Please submit your comments by the closing date shown above in this notice. Your comments must include this notice number and your name and mailing address. Your comments must be legible and written in language acceptable for public disclosure. We do not acknowledge receipt of comments, and we consider all comments as originals. You may submit comments in one of five ways.

• Mail: You may send written comments to TTB at the address listed in the ADDRESSES section.

• Facsimile: You may submit comments by facsimile transmission to 202-927-8525. Faxed comments must—

(1) Be on 8.5- by 11-inch paper;

(2) Contain a legible, written signature; and

(3) Be no more than five pages long. This limitation assures electronic access to our equipment. We will not accept faxed comments that exceed five pages.

• E-mail: You may e-mail comments to nprm@ttb.gov. Comments transmitted by electronic mail must—

(1) Contain your e-mail address;

(2) Reference this notice number on the subject line; and

(3) Be legible when printed on 8.5- by 11-inch paper.

• Online form: We provide a comment form with the online copy of this notice on our Web site at http://www.ttb.gov/alcohol/rules/index.htm. Select the “Send comments via e-mail” link under this notice number.

• Federal e-Rulemaking Portal: To submit comments to us via the Federal e-rulemaking portal, visit http://www.regulations.gov and follow the instructions for submitting comments.

You may also write to the Administrator before the comment closing date to ask for a public hearing. The Administrator reserves the right to determine, in light of all circumstances, whether to hold a public hearing.

Confidentiality

All submitted material is part of the public record and subject to disclosure. Do not enclose any material in your comments that you consider confidential or inappropriate for public disclosure.

Public Disclosure

You may view copies of this notice, the petition, the appropriate maps, and any comments we receive by appointment at the TTB Library at 1310 G Street, NW., Washington, DC 20220. You may also obtain copies at 20 cents per 8.5 x 11-inch page. Contact our librarian at the above address or telephone 202-927-2400 to schedule an appointment or to request copies of comments.

For your convenience, we will post this notice and any comments we receive on this proposal on the TTB Web site. We may omit voluminous attachments or material that we consider unsuitable for posting. In all cases, the full comment will be available in the TTB Library. To access the online copy of this notice and the submitted comments, visit http://www.ttb.gov/alcohol/rules/index.htm. Select the “View Comments” link under this notice number to view the posted comments.

Regulatory Flexibility Act

We certify that this proposed regulation, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

This proposed rule is not a significant regulatory action as defined by Executive Order 12866, 58 FR 51735. Therefore, it requires no regulatory assessment.

Drafting Information

Jennifer Berry of the Regulations and Procedures Division drafted this notice.

List of Subjects in 27 CFR Part 9

Wine.

Proposed Regulatory Amendment

For the reasons discussed in the preamble, we propose to amend title 27, chapter 1, part 9, Code of Federal Regulations, as follows:

PART 9—AMERICAN VITICULTURAL AREAS

1. The authority citation for part 9 continues to read as follows:

Authority: 27 U.S.C. 205.

2. Amend subpart C by adding § 9.___ to read as follows:

Subpart C—Approved American Viticultural Areas

§ 9.___ San Antonio Valley.

(a) Name. The name of the viticultural area described in this section is “San Antonio Valley.” For purposes of part 4 of this chapter, “San Antonio Valley” is a term of viticultural significance.

(b) Approved Maps. The appropriate maps for determining the boundaries of the San Antonio Valley viticultural area are 10 United States Geological Survey 1:24,000 scale topographic maps. They are titled:

(1) Hames Valley, California, 1949, photorevised 1978;

(2) Tierra Redonda Mountain, California, 1949, photorevised 1979;

(3) Bradley, California, 1949, photorevised 1979;

(4) Bryson, California, 1949, photorevised 1979;

(5) Williams Hill, California, 1949, photorevised 1979;

(6) Jolon, California, 1949;

(7) Alder Peak, California, 1995;

(8) Bear Canyon, California, 1949, photoinspected 1972;

(9) Cosio Knob, California, 1949, photorevised 1984; and

(10) Espinosa Canyon, California, 1949, photorevised 1979.

(c) Boundary. The San Antonio Valley viticultural area is located in Monterey County, California. The boundary of the San Antonio Valley viticultural area is as described below:

(1) On the Hames Valley map, begin at the southeast corner of section 14, T23S, R9E; then

(2) Proceed southeast in a straight line for 4 miles across sections 24 and 25, T23S, R9E, and sections 30, 31, and 32, T23S, R10E, and section 5, T24S, R10E, to the southeast corner of section 5, on the Tierra Redonda Mountain map; then

(3) Continue southeast in a straight line for approximately 3.25 miles through sections 9, 16, 15, and 22, T24S, R10E, to the mid-point of the eastern boundary of section 22 on the Bradley map; then

(4) Proceed straight south along the eastern boundary line of sections 22, 27, and 34, T24S, R10E, to the Monterey-San Luis Obispo County line; then

(5) Follow the Monterey-San Luis Obispo County line west, back onto the Tierra Redonda Mountain map, to the southwest corner of section 34, T24S, R9E; then

(6) Proceed northwest in a straight line for approximately 17.25 miles, crossing sections 33, 32, 29, 30, and 19, T24S, R9E, and sections 24, 13, 14, 10, 9, and 4, T24S, R8E, on the Bryson map, section 5, T24S, R8E in the southwest corner of the Williams Hill map, section 32, T23S, and sections 23, 22, 15, and 16, T23S, R7E, on the Jolon map, to an 1,890-foot peak located approximately 2,100 feet west of section 8, T23S, R7E; then

(7) Continue northwest in a straight line for approximately 9.5 miles, crossing the Alder Peak map between Milpitas Grant and Stony Valley, and sections 9, 4, and 5, T22S, R6E, on the Bear Canyon map, to a 2,713-foot peak located in section 5, T22S, R6E; then

(8) Proceed east-northeast in a straight line for approximately 3.75 miles, passing onto the Hunter Liggett Military Reservation and crossing the San Antonio River, to a 2,449-foot peak on the Military Reservation; then

(9) Proceed northeast in a straight line for approximately 1.5 miles, crossing Mission Creek, across sections 30 and 29, T21S, R7E, on the Cosio Knob map to the 2,530-foot peak of Cosio Knob; then

(10) From Cosio Knob, proceed east-southeast in a straight line for approximately 8.5 miles across sections 29, 28, 27, 26, 35, and 36, T21S, R7E, sections 31 and 32, T21S, R8E, and sections 5, 4, 3, and 2, T22S, R8E, on the Espinosa Canyon map, to a 1,811-foot peak located in section 2; then

(11) Proceed southeast in a straight line for 10.25 miles across sections 2, 11, 12, and 13, T22S, R8E, and sections 18 and 19, T22S, R9E, on the Espinosa Canyon map, sections 19, 30, 29, 32, and 33, T22S, R9E, on the northwest corner of the Williams Hills map, sections 4, 3, 10, 11, and 14, T23S, R9E, on the Hames Valley map, to the beginning point at the southeast corner of section 14, T23S, R9E.

Signed: April 26, 2005.
John J. Manfreda,
Administrator.

[FR Doc. 05-10008 Filed 5-18-05; 8:45 am]

BILLING CODE 4810-31-P